DEPARTMENT OF THE INTERIOR

Fish and Wildlife Service

Receipt of Application of Endangered Species Recovery Permits

AGENCY: Fish and Wildlife Service, Interior.

ACTION: Notice of availability.

SUMMARY: We announce our receipt of an application to conduct certain activities pertaining to scientific research and enhancement of survival of endangered species.

DATES: Written comments on this request for a permit must be received September 2, 2003.

ADDRESSES: Written data or comments should be submitted to the Assistant Regional Director-Ecological Services, U.S. Fish and Wildlife Service, P.O. Box 25486, Denver Federal Center, Denver, Colorado 80225-0486; telephone 303-236-7400, facsimile 303-236-0027.

FOR FURTHER INFORMATION CONTACT: Documents and other information submitted with this application are available for review, subject to the requirements of the Privacy Act and Freedom of Information Act, by any party who submits a written request for a copy of such documents within 20 days of the date of publication of this notice to the address above; telephone 303-236-7400.

SUPPLEMENTARY INFORMATION: The following applicant has requested issuance of a scientific research and enhancement of survival permit to conduct certain activities with endangered species pursuant to section 10(a)(1)(A) of the Endangered Species Act of 1973, as amended (16 U.S.C. 1531 et seq.).

TE-050706

Applicant: David Young, Western Ecosystems Technology, Inc., Cheyenne, Wyoming

The applicant requests a permit to take American burying beetles (Nicrophorus americanus) in conjunction with recovery activities throughout the species' range for the purpose of enhancing its survival and recovery.

Dated: July 11, 2003.
Ralph O. Morgenweck,
Regional Director, Denver, Colorado.

[FR Doc. 03-19582 Filed 7-31-03; 8:45 am]

BILLING CODE 4310-55-P